DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period October 1, 2006 Through October 20, 2006

Firm | Address | Date petition accepted | Product
Windo-Therm LLC | 90 Church Street, Hoosick Falls, NY 12090 | 10/3/06 | Window and door coverings.
TechFlex Packaging, LLC | 12624 Daphne Avenue, Hawthorne, CA 90250 | 10/5/06 | Pre-made flexible barrier pouches and bags.
Adaptive Technologies, Inc | 1910 E. Karcher Road, Nampa, Idaho 83687 | 10/5/06 | Molded plastic products such as casings and housings.
Wall Industries, Inc | 5 Watson Brook Road, Exeter, New Hampshire 03833 | 10/6/06 | Power conversion products with an emphasis on modified standard and customized power solutions.
Euclid Industries, Inc | 1655 Tech Drive, Bay City, MI 48706 | 10/12/06 | Precision metal machined products for the automotive industry.
Doyle Enterprises, Inc | 4330 Truevine Road, Rocky Mount, VA 24151 | 10/12/06 | Private label fleece sportsware.
HQC Incorporated | 230 Kendall Point Drive, Oswego, IL 60543 | 10/16/06 | Plastic injected components for large and small Original Equipment Manufacturers requiring close tolerance molding.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: October 24, 2006.
William P. Kittredge,
Program Officer for TAA.

[FR Doc. E6-18275 Filed 10-30-06; 8:45 am]

BILLING CODE 3510-24-P